DEPARTMENT OF HEALTH AND HUMAN SERVICES

Centers for Disease Control and Prevention

[60Day-24-1074; Docket No. CDC-2023-0100]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a continuing information collection, as required by the Paperwork Reduction Act of 1995. This notice invites comment on a proposed information collection project titled Colorectal Cancer Control Program (CRCCP) Monitoring Activities. CDC is requesting an Extension to OMB Control No. 0920-1074 to continue information collection via an annual survey, a clinic-level data collection instrument, and a quarterly recipient-level program update survey.

DATES: CDC must receive written comments on or before February 20, 2024.

ADDRESSES: You may submit comments, identified by Docket No. CDC-2023-0100 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7118; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Colorectal Cancer Control Program (CRCCP) Monitoring Activities (OMB Control No. 0920-1074, Exp. 03/31/2024)—Extension—National Center for Chronic Disease Prevention and Health Promotion (NCCDPHP), Centers for Disease Control and Prevention (CDC).

Background and Brief Description

Colorectal cancer (CRC) is the second leading cause of death from cancer in the United States among cancers that affect both men and women. There is substantial evidence that CRC screening reduces the incidence of, and death from the disease. Screening for CRC can detect disease early when treatment is more effective, and can prevent cancer by finding and removing precancerous polyps. Of individuals diagnosed with early stage CRC, more than 90% live five or more years. Despite strong evidence supporting screening, only 68.8% of adults currently report being up-to-date with CRC screening as recommended by the U.S. Preventive Services Task Force in 2018, with more than 22 million age-eligible adults estimated to be untested. To reduce CRC morbidity, mortality, and associated costs, use of CRC screening tests must be increased among age-eligible adults with the lowest CRC screening rates.

The purpose of the Colorectal Cancer Control Program (CRCCP) is to partner with health systems and their individual primary care clinics to implement Evidence-based interventions (EBIs) to increase CRC screening among defined populations of adults ages 50-75 that have CRC screening rates lower than the national, regional, or local rate. In 2020, CDC issued the funding opportunity, Public Health and Health System Partnerships to Increase Colorectal Cancer Screening in Clinical Settings (DP20-2002), a 5-year cooperative agreement to increase CRC screening among defined populations of adults ages 50-75 that have CRC screening rates lower than the national, regional, or local rate. DP20-2002 funds recipients to partner with health systems and their primary care clinics to implement multiple EBIs, partner with organizations to support implementation of EBIs in those clinics, and collect high-quality clinic-level data when a clinic is recruited to participate (baseline) and annually thereafter to monitor EBI implementation and assess screening rate changes. DP20-2002 also requires recipients to conduct a formal capacity/readiness assessment of potential clinics to implement EBIs, use assessment findings to select appropriate EBIs for implementation, and provide clinics with limited financial resources to support follow-up colonoscopies for under- and uninsured patients after an abnormal CRC screening test.

CDC proposes three information collections—the Annual Awardee Survey, the Clinic-Level Data Collection Instrument, and the Quarterly Program Update—to reflect the strategies and objectives detailed in DP20-2002. CDC will conduct data collections for each of these three proposed activities among all 35 recipients following the end of each program year which runs from July 1-June 30.

The Annual Awardee Survey assesses: (1) program management; (2) clinic readiness assessment activities; (3) data management; (4) technical assistance (TA) needs; (5) partnerships; and (6) the effect of COVID-19 on CRC implementation at the recipient level.

The Clinic-level Information Collection Instrument assesses: (1) health system and clinic characteristics; (2) program reach; (3) CRC screening practices and outcomes; (4) clinics' quality improvement and monitoring activities; (5) EBI implementation; and (6) additional factors that affect EBI implementation over time.

The Quarterly Program Update will collect standardized recipient-level information on aspects of program management, including: (1) quarterly program expenditures; (2) current staff vacancies; (3) program successes and challenges; (4) current TA needs; and (5) the effect of COVID-19 on CRCCP implementation at the recipient level. These data are collected quarterly to enable rapid reporting of programmatic information to support CDC program consultants in providing tailored and meaningful TA.

This information collection enables CDC to gauge progress in meeting CRCCP program goals and monitor implementation activities, evaluate outcomes, and identify recipients' TA needs. In addition, data collected will inform program improvement and help identify successful activities that need to be maintained, replicated, or expanded. CDC is requesting a 3-year Extension to the Colorectal Cancer Control Program (CRCCP) Monitoring Activities collection (OMB No. 0920-1074). The total estimated annualized burden is 760 hours.

Estimated Annualized Burden Hours
Type of respondent | Form name | Number of respondents | Number of responses per respondent | Average burden per response (in hr) | Total burden (in hr)
CRCCP Recipients | CRCCP Annual Awardee Survey | 35 | 1 | 15/60 | 9
| CRCCP Clinic-level Information Collection Instrument | 35 | 24 | 50/60 | 700
| CRCCP Quarterly Program Update | 35 | 4 | 22/60 | 51
Total |  |  |  |  | 760

Jeffrey M. Zirger,
Lead, Information Collection Review Office, Office of Public Health Ethics and Regulations, Office of Science, Centers for Disease Control and Prevention.

[FR Doc. 2023-28174 Filed 12-21-23; 8:45 am]

BILLING CODE 4163-18-P